DEPARTMENT OF JUSTICE

United States Parole Commission

Public Announcement Pursuant to the Government in the Sunshine Act (Pub. L. 94-409) [5 U.S.C. Section 552b]

Agency Holding Meeting: Department of Justice, United States Parole Commission.

Time and Date: 10 a.m., Wednesday, December 3, 2008.

Place: 5550 Friendship Blvd., Fourth Floor, Chevy Chase, MD 20815.

Status: Open.

Matters To Be Considered: The following matters have been placed on the agenda for the open Parole Commission meeting:

1. Approval of Minutes of August 2008 Quarterly Business Meeting.

2. Reports from the Chairman, Commissioners, Chief of Staff, and Section Administrators.

Agency Contact: Thomas W. Hutchison, Chief of Staff, United States Parole Commission, (301) 492-5990.

Date: November 26, 2008.
Rockne J. Chickinell,
General Counsel, U.S. Parole Commission.

[FR Doc. E8-28669 Filed 12-3-08; 8:45 am]

BILLING CODE 4410-31-M